DEPARTMENT OF HOMELAND SECURITY

Coast Guard

33 CFR Part 165

[CGD09-06-019]

RIN 1625-AA87

Security Zone, Mackinac Bridge and Straits of Mackinac, Mackinaw City, MI

AGENCY: Coast Guard, DHS.

ACTION: Final rule.

SUMMARY: The Coast Guard is establishing a permanent security zone approximately one quarter mile on each side of the Mackinac Bridge in the Straits of Mackinac near Mackinaw City, MI. This security zone will place navigational and operational restrictions on all vessels transiting through the Straits area, under and around the Mackinac Bridge, located between Mackinaw City, MI, and St. Ignace, MI.

DATES: This rule is effective August 31, 2006.

ADDRESSES: Comments and material received from the public, as well as documents indicated in this preamble as being available in the docket, are part of docket CGD09-06-019 and are available for inspection or copying at Sector Sault Ste. Marie between 8 a.m. (local) and 4 p.m. (local), Monday through Friday, except Federal holidays.

FOR FURTHER INFORMATION CONTACT: If you have further questions on this rule, contact CDR R. Stephenson, Prevention Department Chief, Sector Sault Ste. Marie, MI at 906-635-3220.

SUPPLEMENTARY INFORMATION:

Regulatory Information

On May 24, 2006, we published a notice of proposed rulemaking (NPRM) entitled Security Zone, Mackinac Bridge and Straits of Mackinac, Mackinaw City, MI in the Federal Register (71 FR 29873). We received no letters commenting on the proposed rule. No public hearing was requested, and none was held. Under 5. U.S.C. 553(d)(3) the Coast Guard finds good cause exists for making this rule effective less than 30 days after publication in the Federal Register. Specifically, delaying this rule would be contrary to the public interest of ensuring the safety of pedestrians in the event of an accidental or intentional bridge allision by a vessel.

Background and Purpose

The Mackinac Bridge Walk is held on Labor Day of each year. At this annual event participants are permitted to walk the five mile distance of the Mackinac Bridge from St. Ignace, MI. to Mackinaw City, MI. The purpose of this security zone is to protect pedestrians during the event from accidental or intentional vessel to bridge allision.

Because this is an annual event, the Coast Guard is enacting a permanent security zone that will be in effect Labor Day of each year.

Discussion of Comments and Changes

No comments were received by the Coast Guard as a result of the request for comments in our NPRM. Therefore, we made no changes from the proposed rule.

Regulatory Evaluation

This rule is not a “significant regulatory action” under section 3(f) of Executive Order 12866, Regulatory Planning and Review, and does not require an assessment of potential costs and benefits under section 6(a)(3) of that Order. It has not been reviewed by the Office of Management and Budget under that Order. It is not “significant” under the regulatory policies and procedures of the Department of Homeland Security (DHS).

We expect the economic impact of this rule to be so minimal that a full Regulatory Evaluation under the regulatory policies and procedures of DHS is unnecessary.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule may affect the following entities, some of which may be small entities: The owners or operators of vessels which may be intending to transit or anchor in a portion of the Straits of Mackinac on Labor Day between 6 a.m. (local) and 11:59 p.m. (midnight) (local).

This rule will not have a significant impact on a substantial number of small entities because the restrictions affect only a limited area for a brief amount of time in a limited area. Further, transit through the zone may be permitted with proper authorization from the Captain of the Port or his designated representative. Additionally, the opportunity to engage in activities outside the limits of the safety zone will not be disrupted.

Assistance for Small Entities

Under section 213(a) of the Small Business Regulatory Enforcement Fairness Act of 1996 (Pub. L. 104-121), we offered to assist small entities in understanding the rule so that they can better evaluate its effects on them and participate in the rulemaking process. Small businesses may send comments on actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA)(42 U.S.C. 4321-4370f), and have made a preliminary determination that there are no factors in this case that would limit the use of a categorical exclusion under section 2.B.2 of the Instruction. Therefore, we believe that this rule should be categorically excluded, under figure 2-1, paragraph (34)(g), of the Instruction, from further environmental documentation. This temporary rule establishes a security zone and as such is covered by this paragraph.

A final “Environmental Analysis Check List” and a final “Categorical Exclusion Determination” are available in the docket where indicated under ADDRESSES. Comments on this section will be considered before we make the final decision on whether the rule should be categorically excluded from further environmental review.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Public Law 107-295, 116 Stat. 2064; Department of Homeland Security Delegation No. 0170.1.

2. Add § 165.928 to read as follows:

§ 165.928 Security Zone; Mackinac Bridge, Straits of Mackinac, Michigan.

(a) Definitions. The following definitions apply to this section:

(1) Designated Representative means those persons designated by the Captain of the Port to monitor these security zones, permit entry into these zones, give legally enforceable orders to persons or vessels within these zones and take other actions authorized by the Captain of the Port. Persons authorized in paragraph (e) to enforce this section and Vessel Traffic Service St. Marys River (VTS) are Designated Representatives.

(2) Federal Law Enforcement Officer means any employee or agent of the United States government who has the authority to carry firearms and make warrantless arrests and whose duties involve the enforcement of criminal laws of the United States.

(3) Navigable waters of the United States means those waters defined as such in 33 CFR part 2.

(4) Public vessel means vessels owned, chartered, or operated by the United States, or by a State or political subdivision thereof.

(5) Michigan Law Enforcement Officer means any regularly employed member of a Michigan police force responsible for the prevention and detection of crime and the enforcement of the general criminal laws of Michigan as defined in Michigan Compiled Laws section 28.602(l)(i).

(b) Security zone. The following area is a security zone: All waters enclosed by a line connecting the following points: 45°50.763 N: 084°43.731 W, which is the northwest corner; thence east to 45°50.705 N: 084°43.04 W, which is the northeast corner; thence south to 45°47.242 N: 084°43.634 W, which is the southeast corner; thence west to 45°47.30 N: 084°44.320 W, which is the southwest corner; then north to the point of origin. The zone described above includes all waters on either side of the Mackinac Bridge within one-quarter mile of the bridge. [Datum: NAD 1983].

(c) Obtaining permission to enter or move within, the security zone: All vessels must obtain permission from the COTP or a Designated Representative to enter or move within, the security zone established in this section. Vessels with an operable Automatic Identification System (AIS) unit should seek permission from the COTP or a Designated Representative at least 1 hour in advance. Vessels with an operable AIS unit may contact VTS St. Marys River (Soo Traffic) on VHF channel 12. Vessels without an operable AIS unit should seek permission at least 30 minutes in advance. Vessels without an operable AIS unit may contact Coast Guard Station St. Ignace on VHF channel 16.

(d) Regulations. The general regulations in 33 CFR part 165 subpart D, apply to any vessel or person in the navigable waters of the United States to which this section applies. No person or vessel may enter the security zone established in this section unless authorized by the Captain of the Port or his designated representatives. Vessels and persons granted permission to enter the security zone shall obey all lawful orders or directions of the Captain of the Port or his designated representatives. All vessels entering or moving within the security zone must operate at speeds which are necessary to maintain a safe course and which will not exceed 12 knots.

(e) Enforcement. Any Coast Guard commissioned, warrant or petty officer may enforce the rules in this section. In the navigable waters of the United States to which this section applies, when immediate action is required and representatives of the Coast Guard are not present or not present in sufficient force to provide effective enforcement of this section, any Federal Law Enforcement Officer or Michigan Law Enforcement Officer may enforce the rules contained in this section pursuant to 33 CFR 6.04-11. In addition, the Captain of the Port may be assisted by other Federal, state or local agencies in enforcing this section pursuant to 33 CFR 6.04-11.

(f) Exemption. Public vessels as defined in paragraph (a) of this section are exempt from the requirements in this section.

(g) Waiver. For any vessel, the Captain of the Port Sault Ste. Marie may waive any of the requirements of this section, upon finding that operational conditions or other circumstances are such that application of this section is unnecessary or impractical for the purpose of port security, safety or environmental safety.

(h) Enforcement period. This rule will be enforced Labor Day of each year; 6 a.m. (local) to 11:59 p.m. (midnight) (local).

Dated: July 28, 2006.
E.Q. Kahler,
Captain, U.S. Coast Guard, Captain of the Port, Sault Ste. Marie.

[FR Doc. E6-12947 Filed 8-8-06; 8:45 am]

BILLING CODE 4910-15-P